DEPARTMENT OF ENERGY

Federal Energy Regulatory Commission

[Docket No. ER02-1654-000]

Oncor Electric Delivery Company, Kiowa Power Partners, LLC; Notice of Filing

May 3, 2002.

Take notice that on May 1, 2002, Oncor Electric Delivery Company (Oncor) conditionally tendered for filing an unexecuted Interconnection Agreement (Agreement) between Oncor and Kiowa Power Partners, LLC, pursuant to Section 210, 211, and 212 of the Federal Power Act and the Offer of Settlement filed by Kiowa as part of its Application in Docket No. TX02-2-000 and later executed by Oncor.

Oncor seeks an effective date for the Agreement of the same date as the date of a final and appealable Commission Order consistent in all material respects with the proposed Order Directing Interconnection And Transmission Services And Approving Settlement attached to the Offer of Settlement in Docket No. TX02-2-000.

Oncor states that this filing has been served upon Kiowa, the Public Utility Commission of Texas, and each person designated on the official service list compiled by the Secretary for Docket No. TX02-2-000.

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov using the “RIMS” link, select “Docket #” and follow the instructions (call 202-208-2222 for assistance). Protests and interventions may be filed electronically via the Internet in lieu of paper; see 18 CFR 385.2001(a)(1)(iii) and the instructions on the Commission's Web site under the “e-Filing” link.

Comment Date: May 13, 2002.

Linwood A. Watson, Jr.,
Deputy Secretary.

[FR Doc. 02-11592 Filed 5-8-02; 8:45 am]

BILLING CODE 6717-01-P